DEPARTMENT OF JUSTICE

Drug Enforcement Administration

Importer of Controlled Substances; Correction to Notice of Application

The Drug Enforcement Administration (DEA) is hereby correcting a notice of application that appeared in the Federal Register on January 23, 2006 (71 FR 3545). That document announced the application of Cody Laboratories, Inc., to be registered as an importer of raw opium, poppy straw, and concentrate of poppy straw.

The January 23, 2006, notice of application incorrectly stated that “[a]ny manufacturer who is presently, or is applying to be, registered with DEA to manufacture such basic classes of controlled substances may file comments or objections to the issuance of the proposed registration and may, at the same time, file a written request for a hearing on such application pursuant to 21 CFR 1301.43 and in such form as prescribed by 21 CFR 1316.47.” Correctly stated, under the Controlled Substances Act (CSA) and DEA regulations, applications to import narcotic raw materials, including raw opium, poppy straw, and concentrate of poppy straw, are not required to be published in the Federal Register. Further, the notice of application, although not required to be published at all, should have stated that “bulk manufacturers” of raw opium, poppy straw, or concentrate of poppy straw may file a written request for a hearing. As explained in the Correction to Notice of Application pertaining to Rhodes Technologies published today, since there are no domestic bulk manufacturers of narcotic raw materials registered with DEA, no registrant has a statutory or regulatory right to a hearing on the application. For the reasons set forth therein, I correct the Notice of Application dated January 23, 2006. I direct the Administrative Law Judge to remove from the agency's administrative docket the hearing on the application of Cody Laboratories, Inc. to be registered as an importer of narcotic raw materials.

Dated: January 18, 2007.
Michele M. Leonhart,
Deputy Administrator.

[FR Doc. E7-1052 Filed 1-24-07; 8:45 am]

BILLING CODE 4410-09-P